DEPARTMENT OF AGRICULTURE

Agricultural Marketing Service

7 CFR Parts 916 and 917

[Docket No. AO-90-A7; AMS-FV-06-0207; FV05-916-1 C]

Nectarines and Peaches Grown in California; Order Amending Marketing Order Nos. 916 and 917; Correction

AGENCY: Agricultural Marketing Service, USDA.

ACTION: Correcting amendment.

SUMMARY: The Agricultural Marketing Service published a final rule in the Federal Register on July 21, 2006 (71 FR 41345). The document implemented amendments to the California nectarine and peach marketing orders. Implementation of the amendments required either lifting or suspending certain language in the orders. However, two of those actions were omitted in the final rule's amendatory instructions. This document correctly identifies which suspension should be lifted and which suspension should be made. In addition, this document corrects a reference to committee size.

DATES: Effective on February 21, 2007.

FOR FURTHER INFORMATION CONTACT: Laurel May or Kathleen M. Finn, Marketing Order Administration Branch, Fruit and Vegetable Programs, AMS, USDA, 1400 Independence Avenue SW., Stop 0237, Washington, DC 20250-0237; Telephone: (202) 720-2491, Fax: (202) 720-8938, or E-mail: Laurel.May@usda.gov or Kathy.Finn@usda.gov.

SUPPLEMENTARY INFORMATION: This document provides correcting amendments to Marketing Orders 916 and 917, found respectively at 7 CFR part 916 and 7 CFR part 917.

List of Subjects

7 CFR Part 916

Marketing agreements, Nectarines, Reporting and recordkeeping requirements.

7 CFR Part 917

Marketing agreements, Peaches, Pears, Reporting and recordkeeping requirements.

Accordingly, 7 CFR parts 916 and 917 are corrected by making the following correcting amendments:

1. The authority citation for 7 CFR parts 916 and 917 continues to read as follows:

Authority: 7 U.S.C. 601-674.

PART 916—NECTARINES GROWN IN CALIFORNIA

§ 916.23 [Amended]

2. In § 916.23, remove the word “eight.”

PART 917—FRESH PEARS AND PEACHES GROWN IN CALIFORNIA

§ 917.18 [Amended]

3. In § 917.18, paragraph (a), lift the suspension of January 1, 2007 (71 FR 41345).

§ 917.24 [Amended]

4. In § 917.24, paragraph (a), suspend the words “and not later than February 15 for pears.”

Dated: February 15, 2007.
Lloyd C. Day,
Administrator, Agricultural Marketing Service.

[FR Doc. 07-783 Filed 2-16-07; 8:46 am]

BILLING CODE 3410-02-P